DEPARTMENT OF HOMELAND SECURITY

Federal Emergency Management Agency

[Docket ID FEMA-2013-0002]

Changes in Flood Hazard Determinations

AGENCY: Federal Emergency Management Agency, DHS.

ACTION: Final Notice.

SUMMARY: New or modified Base (1% annual-chance) Flood Elevations (BFEs), base flood depths, Special Flood Hazard Area (SFHA) boundaries or zone designations, and/or the regulatory floodway (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: The effective date for each LOMR is indicated in the table below.

ADDRESSES: Each LOMR is available for inspection at both the respective Community Map Repository address listed in the table below and online through the FEMA Map Service Center at www.msc.fema.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and ninety (90) days have elapsed since that publication. The Deputy Associate Administrator for Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard determinations are the basis for the floodplain management measures that the community is required either to adopt or to show evidence of being already in effect in order to remain qualified for participation in the National Flood Insurance Program (NFIP).

These new or modified flood hazard determinations, together with the floodplain management criteria required by 44 CFR 60.3, are the minimum that are required. They should not be construed to mean that the community must change any existing ordinances that are more stringent in their floodplain management requirements. The community may at any time enact stricter requirements of its own or pursuant to policies established by other Federal, State, or regional entities.

These new or modified flood hazard determinations are used to meet the floodplain management requirements of the NFIP and also are used to calculate the appropriate flood insurance premium rates for new buildings, and for the contents in those buildings. The changes in flood hazard determinations are in accordance with 44 CFR 65.4.

Interested lessees and owners of real property are encouraged to review the final flood hazard information available at the address cited below for each community or online through the FEMA Map Service Center at www.msc.fema.gov.

State and county | Location and case No. | Chief executive officer of community | Community map repository | Effective date of modification | Community No.
Oklahoma:
Tulsa (FEMA Docket No.: B-1278) | City of Broken Arrow (11-06-0831P) | The Honorable Craig Thurmond, Mayor, City of Broken Arrow, 220 South 1st Street, Broken Arrow, OK 74012 | Department of Public Works, 485 North Poplar Avenue, Broken Arrow, OK 74102 | December 31, 2012 | 400236
Tulsa (FEMA Docket No.: B-1278) | City of Tulsa (11-06-0831P) | The Honorable Dewey F. Bartlett, Jr., Mayor, City of Tulsa, 175 East 2nd Street, Tulsa, OK 74103 | Development Services, 175 East 2nd Street, Suite 450, Tulsa, OK 74103 | December 31, 2012 | 405381
Pennsylvania:
Cumberland (FEMA Docket No.: B-1278) | Township of Lower Allen (12-03-1797P) | The Honorable H. Edward Black, President, Township of Lower Allen Board of Commissioners, 2233 Gettysburg Road, Camp Hill, PA 17011 | Township of Lower Allen Municipal Services Center, 2233 Gettysburg Road, Camp Hill, PA 17011 | January 7, 2013 | 421016
Lancaster (FEMA Docket No.: B-1278) | Borough of Manheim (11-03-1822P) | The Honorable Eric Phillips, Mayor, Borough of Manheim, 15 East High Street, Manheim, PA 17545 | Borough Office, 15 East High Street, Manheim, PA 17545 | January 14, 2013 | 420555
Lancaster (FEMA Docket No.: B-1278) | Township of Penn (11-03-1822P) | The Honorable David A. Sarley, Chairman, Township of Penn Board of Supervisors, 97 North Penryn Road, Manheim, PA 17545 | Penn Township Office, 97 North Penryn Road, Manheim, PA 17545 | January 14, 2013 | 421778
Texas:
Bexar (FEMA Docket No.: B-1278) | City of San Antonio (12-06-1378P) | The Honorable Julian Castro, Mayor, City of San Antonio, 100 Military Plaza, San Antonio, TX 78205 | Municipal Plaza, 114 West Commerce Street, 7th Floor, San Antonio, TX 78205 | January 10, 2013 | 480045
Bexar (FEMA Docket No.: B-1279) | City of San Antonio (12-06-0109P) | The Honorable Julian Castro, Mayor, City of San Antonio, 100 Military Plaza, San Antonio, TX 78205 | Municipal Plaza, 114 West Commerce Street, 7th Floor, San Antonio, TX 78205 | January 22, 2013 | 480045
Bexar (FEMA Docket No.: B-1278) | Unincorporated areas of Bexar County (12-06-0857P) | The Honorable Nelson W. Wolff, Bexar County Judge, Paul Elizondo Tower, 101 West Nueva Street, 10th Floor, San Antonio, TX 78205 | Bexar County Public Works Department, 233 North Pecos- La Trinidad Street, Suite 420, San Antonio, TX 78207 | January 10, 2013 | 480035
Bexar (FEMA Docket No.: B-1278) | Unincorporated areas of Bexar County (12-06-2935P) | The Honorable Nelson W. Wolff, Bexar County Judge, Paul Elizondo Tower, 101 West Nueva Street, 10th Floor, San Antonio, TX 78205 | Bexar County Public Works Department, 233 North Pecos- La Trinidad Street, Suite 420, San Antonio, TX 78207 | January 10, 2013 | 480035
Bexar (FEMA Docket No.: B-1279) | Unincorporated areas of Bexar County (12-06-0109P) | The Honorable Nelson W. Wolff, Bexar County Judge, Paul Elizondo Tower, 101 West Nueva Street, 10th Floor, San Antonio, TX 78205 | Bexar County Public Works Department, 233 North Pecos-La Trinidad Street, Suite 420, San Antonio, TX 78207 | January 22, 2013 | 480035
Dallas (FEMA Docket No.: B-1278) | City of Dallas (12-06-0869P) | The Honorable Mike Rawlings, Mayor, City of Dallas, 1500 Marilla Street, Room 5EN, Dallas, TX 75201 | Department of Public Works, 320 East Jefferson Boulevard, Room 321, Dallas, TX 75203 | January 7, 2013 | 480171
Dallas (FEMA Docket No.: B-1278) | City of Garland (12-06-0869P) | The Honorable Ronald E. Jones, Mayor, City of Garland, 200 North 5th Street, Garland, TX 75040 | City Hall, 800 Main Street, Garland, TX 75040 | January 7, 2013 | 485471
Dallas (FEMA Docket No.: B-1278) | City of Rowlett (12-06-0869P) | The Honorable Todd W. Gottel, Mayor, City of Rowlett, 4000 Main Street, Rowlett, TX 75088 | City Hall, 4000 Main Street, Rowlett, TX 75088 | January 7, 2013 | 480185
Ellis (FEMA Docket No.: B-1279) | City of Midlothian (12-06-0065P) | The Honorable Bill Houston, Mayor, City of Midlothian, 104 West Avenue East, Midlothian, TX 76065 | 104 West Avenue East, Midlothian, TX 76065 | October 11, 2012 | 480801
Harris (FEMA Docket No.: B-1279) | City of Baytown (11-06-4571P) | The Honorable Stephen H. DonCarlos, Mayor, City of Baytown, 2401 Market Street, Baytown, TX 77522 | City Hall, 2401 Market Street, Baytown, TX 75522 | January 22, 2013 | 485456
Harris (FEMA Docket No.: B-1278) | Unincorporated areas of Harris County (12-06-0881P) | The Honorable Ed Emmett, Harris County Judge, 1001 Preston Street, Suite 911, Houston, TX 77002 | Harris County, 10555 Northwest Freeway, Suite 120, Houston, TX 77092 | December 31, 2012 | 480287
Harris (FEMA Docket No.: B-1279) | Unincorporated areas of Harris County (11-06-4571P) | The Honorable Ed Emmett, Harris County Judge, 1001 Preston Street, Suite 911, Houston, TX 77002 | Harris County, 10555 Northwest Freeway, Suite 120, Houston, TX 77092 | January 22, 2013 | 480287
Harris (FEMA Docket No.: B-1279) | Unincorporated areas of Harris County (12-06-2710P) | The Honorable Ed Emmett, Harris County Judge, 1001 Preston Street, Suite 911, Houston, TX 77002 | Harris County, 10555 Northwest Freeway, Suite 120, Houston, TX 77092 | January 22, 2013 | 480287
Lubbock (FEMA Docket No.: B-1279) | City of Lubbock (12-06-1157P) | The Honorable Glen Robertson, Mayor, City of Lubbock, P.O. Box 2000, Lubbock, TX 79457 | City Hall, 1625 13th Street, Lubbock, TX 79408 | January 22, 2013 | 480452
Lubbock (FEMA Docket No.: B-1278) | Unincorporated areas of Lubbock County (12-06-0396P) | The Honorable Tom Head, Lubbock County Judge, 904 Broadway Street, Suite 101, Lubbock, TX 79401 | Lubbock County Courthouse, 904 Broadway Street, Lubbock, TX 79401 | January 10, 2013 | 480915
Rockwall (FEMA Docket No.: B-1279) | City of Rockwall (12-06-2575P) | The Honorable David Sweet, Mayor, City of Rockwall, 385 South Goliad Street, Rockwall, TX 75087 | City Hall, 205 West Rusk Street, Rockwall, TX 75087 | January 18, 2013 | 480547
Wichita (FEMA Docket No.: B-1278) | City of Wichita Falls (12-06-0348P) | The Honorable Glenn Barham, Mayor, City of Wichita Falls, P.O. Box 1431, Wichita Falls, TX 76307 | City Hall, 1300 7th Street, Wichita Falls, TX 76301 | January 7, 2013 | 480662

(Catalog of Federal Domestic Assistance No. 97.022, “Flood Insurance.”)

Roy E. Wright,
Deputy Associate Administrator for Mitigation, Department of Homeland Security, Federal Emergency Management Agency.

[FR Doc. 2013-08200 Filed 4-8-13; 8:45 am]

BILLING CODE 9110-12-P